DEPARTMENT OF LABOR

Employment and Training Administration

[TA-W-81,776; TA-W-81,776B]

HCL America, Inc., a Subsidiary of HCL Technologies Limited, Including On-Site Leased Workers From Xerox Corporation, V Dart Inc., KRG Technologies Inc., Genuent Inc., BMC Corporation Professional Services, and Fusion Storm, Webster, NY; HCL America, Inc., a Subsidiary of HCL Technologies Limited, Wilsonville, OR; Amended Certification Regarding Eligibility To Apply for Worker Adjustment Assistance

In accordance with Section 223 of the Trade Act of 1974, as amended (“Act”), 19 U.S.C. 2273, the Department of Labor (Department) issued a Certification of Eligibility to Apply for Worker Adjustment Assistance on August 3, 2012, applicable to the workers of HCL America Inc., a subsidiary of HCL Technologies Limited, Webster, New York (subject firm). The Department's Notice of determination was published in the Federal Register on August 16, 2012. Workers are engaged in activities related to the supply of application support and development services and infrastructure services (hardware/software testing) for clients.

New information revealed that workers at the Wilsonville, Oregon facility (TA-W-81,776A) operated in conjunction with workers at the Webster, New York facility (TA-W-81,776).

The intent of the Department's certification is to include all workers of HCL America, Inc., Webster, New York (TA-W-81,776) and Wilsonville, Oregon (TA-W-81,776A), who were all adversely affected by an acquisition of services from a foreign Country.

The amended notice applicable to TA-W-81,776 is hereby issued as follows:

All workers of HCL America Inc., a subsidiary of HCL Technologies Limited, including on-site leased workers from Xerox Corporation, V Dart, Inc., KRG Technologies, Inc., Genuent, Inc., BMC Corporation Professional Services, and Fusion Storm, Webster, New York (TA-W-81,776) and all workers of HCL America, Inc., a subsidiary of HCL Technologies Limited, Wilsonville, Oregon (TA-W-81,776A), who became totally or partially separated from employment on or after July 3, 2011 through August 3, 2014, and all workers in the group threatened with partial or total separation from employment on August 3, 2012 through August 3, 2014, are eligible to apply for adjustment assistance under Chapter 2 of Title II of the Trade Act of 1974, as amended.

Signed at Washington, DC, this 6th day of February, 2013.
Del Min Amy Chen,
Certifying Officer, Office of Trade Adjustment Assistance.

[FR Doc. 2013-04022 Filed 2-21-13; 8:45 am]

BILLING CODE 4510-FN-P